CORPORATION FOR NATIONAL AND COMMUNITY SERVICE

45 CFR Part 2552

RIN 3045-AA30

Foster Grandparent Program; Amendments

AGENCY: Corporation for National and Community Service.

ACTION: Proposed rule.

SUMMARY: These amendments to the Final Regulation governing the Foster Grandparent Program include: providing increased flexibility to sponsors to determine the hours of service of Foster Grandparents; reducing restrictions on sponsors serving as volunteer stations; clarifying what income should be counted for purposes of determining income eligibility of an applicant to become a stipended Foster Grandparent; and improving access of persons with limited English speaking proficiency.

DATES: Submit comments on or before June 17, 2002.

ADDRESSES: Send comments to the Corporation for National and Community Service, National Senior Service Corps, Attn: Mr. Peter L. Boynton, 9th Floor, 1201 New York Avenue, NW, Washington, DC 20525. Comments may be e-mailed to Pboynton@cns.gov.

FOR FURTHER INFORMATION CONTACT: Peter L. Boynton, 202-606-5000, ext. 499.

SUPPLEMENTARY INFORMATION:

Background

The Final Regulation that is the subject of this amendment implemented changes to the Domestic Volunteer Service Act of 1973, as amended, and established or clarified minimum program requirements. The following changes to the Final Regulation are being proposed:

(1) Section 2552.23(c)(2)(iv) provides that the Memorandum of Understanding between a sponsor and a volunteer station must contain an assurance that the volunteer station will not discriminate against Foster Grandparents or in the operation of its station. Executive Order 13166 issued August 11, 2000, requires that each Federal agency develop a plan to improve access to its programs by eligible persons who, as a result of national origin, are limited in their English proficiency. The intent of the proposed amendment is to improve access of persons with limited English proficiency.

(2) Section 2552.42(b) provides that annual income is counted for the past 12 months. As currently worded, this applies equally to new applicants to the program as well as those who continue in service. However, in the case of new applicants to become stipended Foster Grandparents, the Corporation intends that sponsors use the applicant's projected income over the following 12 months to determine eligibility. This amendment would permit additional recent retirees, or others whose household income has been reduced within the past 12 months, to serve as Foster Grandparents.

(3) Section 2552.51 provides that a Foster Grandparent must serve a minimum of nine months a year for an average of 20 hours of service per week and a maximum of 1044 hours per year. The proposed amendment would allow Foster Grandparent Program sponsors increased flexibility in determining the hours of service for Foster Grandparents in accordance with local needs, within a range of from 15 to 40 hours per week, subject to a maximum of 2088 hours per year.

(4) Section 2552.61 details conditions in which a Foster Grandparent Program sponsor may serve as a volunteer station. The Corporation believes these conditions should be expanded. Since each sponsor currently submits workplans with its grant applications for approval by the Corporation State Office, the Corporation believes the review of these workplans provides sufficient basis for deciding the appropriateness of a given sponsor serving as a volunteer station. The proposed amendment would permit a sponsor to serve as a volunteer station provided that this is part of a workplan submitted with the application.

List of Subjects in 45 CFR Part 2552

Aged, Grant programs—social programs, Volunteers.

For the reasons set forth in the preamble, the Corporation for National and Community Service proposes to amend 45 CFR part 2552 as follows:

PART 2552—FOSTER GRANDPARENT PROGRAM

1. The authority citation for part 2552 continues to read as follows:

Authority: 42 U.S.C. 4950 et seq.

2. Revise § 2552.23(c)(2)(iv) to read as follows:

§ 2552.23 What are a sponsor's program responsibilities?

* * * * *

(c) * * *

(2) * * *

(iv) That states the station assures it will not discriminate against Foster Grandparents or in the operation of its program on the basis of race; color; national origin, including individuals with limited English proficiency; sex; age; political affiliation; religion; or on the basis of disability, if the participant or member is a qualified individual with a disability; and

* * * * *

3. In § 2552.42, revise paragraph (b) to read as follows:

§ 2552.42 What income guidelines govern eligibility to serve as a stipended Foster Grandparent?

* * * * *

(b) For applicants to become stipended Foster Grandparents, annual income is projected for the following 12 months, based on income at the time of application. For serving stipended Foster Grandparents, annual income is counted for the past 12 months. Annual income includes the applicant or enrollee's income and that of his/her spouse, if the spouse lives in the same residence. Sponsors shall count the value of shelter, food, and clothing, if provided at no cost by persons related to the applicant, enrollee, or spouse.

* * * * *

4. Revise § 2552.51 to read as follows:

§ 2552.51 What are the terms of service of a Foster Grandparent?

A Foster Grandparent shall serve a minimum of 15 hours per week and a maximum of 40 hours per week. A Foster Grandparent shall not serve more than 2088 hours per year. Within these limitations, a sponsor may set service policies consistent with local needs.

5. Revise § 2552.61 to read as follows:

§ 2552.61 May a sponsor serve as a volunteer station?

Yes, a sponsor may serve as a volunteer station, provided this is part of the application workplan approved by the Corporation.

Dated: April 10, 2002.
Tess Scannell,
Director, National Senior Service Corps.

[FR Doc. 02-9200 Filed 4-16-02; 8:45 am]

BILLING CODE 6050-$$-P